INTERNATIONAL TRADE COMMISSION

[USITC SE-16-027]

Government in the Sunshine Act Meeting Notice

AGENCY HOLDING THE MEETING: United States International Trade Commission

TIME AND DATE: August 12, 2016 at 11:00 a.m.

PLACE: Room 101, 500 E Street SW., Washington, DC 20436, Telephone: (202) 205-2000.

STATUS: Open to the public

MATTERS TO BE CONSIDERED: 1. Agendas for future meetings: none

2. Minutes

3. Ratification List

4. Vote in Inv. No. 731-TA-1330 (Preliminary) (Dioctyl Terephthalate (DOTP) from Korea). The Commission is currently scheduled to complete and file its determination on August 15, 2016; views of the Commission are currently scheduled to be completed and filed on August 22, 2016.

5. Vote in Inv. Nos. 701-TA-563 and 731-TA-1331-1333 (Preliminary) (Finished Carbon Steel Flanges from India, Italy, and Spain). The Commission is currently scheduled to complete and file its determinations on August 15, 2016; views of the Commission are currently scheduled to be completed and filed on August 22, 2016.

6. Outstanding action jackets: none

In accordance with Commission policy, subject matter listed above, not disposed of at the scheduled meeting, may be carried over to the agenda of the following meeting.

By order of the Commission.
Issued: July 26, 2016.
Katherine M. Hiner,
Acting Supervisory Attorney.

[FR Doc. 2016-18086 Filed 7-27-16; 11:15 am]

BILLING CODE 7020-02-P